DEPARTMENT OF HOMELAND SECURITY

Coast Guard

[Docket Number: USCG-2023-0825]

Designation of the Coast Guard Academy Athletics Corporation as a Qualified Organization and Appointment of Dr. Daniel Rose as a Member of the Board of Directors of the Corporation

AGENCY: Coast Guard, Department of Homeland Security (DHS).

ACTION: Notice.

SUMMARY: The Coast Guard announces the designation of the Coast Guard Academy Athletics Corporation (CGAAC) as a qualified non-Federal entity that can receive support from the Federal Government. Dr. Daniel Rose, Athletics Director of the Coast Guard Academy, has been appointed to serve as a member on the Board of Directors of the CGAAC. Dr. Rose will provide oversight of, advice to, and coordination with, the CGAAC. Dr. Rose will not participate in the day-to-day operations of the CGAAC.

DATES: The appointment was made October 19, 2023.

ADDRESSES: To view documents mentioned in this preamble as being available in the docket, go to https://www.regulations.gov, type USCG-2023-0825 in the search box and click “Search.” Next, in the Document Type column, select “Supporting & Related Material.”

FOR FURTHER INFORMATION CONTACT: If you have questions on this rule, call or email Commander Jeffrey G. Janaro, Coast Guard Academy, telephone 860-444-8255, email jeff.g.janaro@uscg.mil.

SUPPLEMENTARY INFORMATION: The Coast Guard announces the designation of the Coast Guard Academy Athletics Corporation (CGAAC) as a “qualified organization” under 14 U.S.C. 953. Section 953 allows the Coast Guard Academy Alumni Association to establish a “qualified organization” solely for the purpose of supporting Coast Guard athletics.

A “qualified organization” means an organization (1) that operates as an organization under subsection (c)(3) of section 501 of the Internal Revenue Code of 1986 and exempt from taxation under subsection (a) of that section; (2) for which authorization under sections 1033(a) and 1589(a) of Title 10 may be provided; and (3) established by the Coast Guard Academy Alumni Association solely for the purpose of supporting Coast Guard athletics.

The Coast Guard also announces the appointment of Dr. Daniel Rose, the Coast Guard Academy Athletics Director, to serve on the CGAAC Board of Directors in accordance with 10 U.S.C. 1033. Under 10 U.S.C. 1033 the Secretary of the Department of the Homeland Security is authorized to appoint, without compensation, an officer to provide oversight of, advice to, and coordination with, a designated entity, such as CGAAC, and participation of the member in the activities of the designated entity, which would not extend to participation in the day-to-day operations of the entity. This authority of the Secretary is delegated to the Commandant of the Coast Guard through the Department of Homeland Security Delegation No. 00170.1, Revision No. 01.3 (paragraph II.14).

The effective date of Dr. Rose's appointment is October 19, 2023. Dr. Rose will serve in his official capacity as the Coast Guard Academy Athletics Director, without additional compensation, providing oversight and advice to the CGAAC. Dr. Rose's participation will not extend to participation in the day-to-day operations of the CGAAC.

M.W. Hammond,
Captain, U.S. Coast Guard, Acting Assistant Superintendent, U.S. Coast Guard Academy.

[FR Doc. 2023-26304 Filed 11-29-23; 8:45 am]

BILLING CODE 9110-04-P